FEDERAL COMMUNICATIONS COMMISSION

47 CFR Part 73

[DA 00-304; MM Docket No. 99-159; RM-9616; MM Docket 99-160; RM-9617; MM Docket No. 99-161; RM-9565; MM Docket 99-162; RM-9566; MM Docket No. 99-192; RM-9633]

Radio Broadcasting Services; Paxton, Overton, Hershey, Sutherland and Ravenna, NE

AGENCY: Federal Communications Commission.

ACTION: Final rule.

SUMMARY: The Commission, at the request of Mountain West Broadcasting, allots Channel 228C1 to Paxton, NE, Channel 257C2 to Overton, NE, Channel 297C1 to Hershey, NE, Channel 264C1 to Sutherland, NE, and 276C2 to Ravenna, NE, as each community's first local aural service. Each of the allotments can be made in compliance with the Commission's minimum distance separation requirements without the imposition of a site restriction. The allotment coordinates are: Paxton, NE, 41-06-48 NL; 101-21-12 WL; Overton, NE, 40-44-24 NL; 99-42-06 WL; Hershey, NE, 41-09-30 NL; 101-00-00 WL; Sutherland, NE, 41-09-30 NL; 101-07-36 WL; Ravenna, NE, 41-01-36 NL; 98-54-48 WL. See 64 FR 27132, May 25, 1999, 64 FR 28424, May 26, 1999, 64 FR 28425, May 26, 1999, and 64 FR 29978, June 4, 1999. A filing window for these channels will not be opened at this time. Instead, the issue of opening a filing window for these channels will be addressed by the Commission in a subsequent order.

DATES: Effective April 3, 2000.

FOR FURTHER INFORMATION CONTACT: Leslie K. Shapiro, Mass Media Bureau, (202) 418-2180.

SUPPLEMENTARY INFORMATION: This is a synopsis of the Commission's Report and Order, MM Docket Nos. 99-159, 99-160, 99-161, 99-162, 99-192, adopted February 9, 2000, and released February 18, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under Nebraska, is amended by adding Hershey, Channel 297C1; Overton, Channel 257C2; Paxton, Channel 228C1, Ravenna, Channel 276C2; and Sutherland, Channel 264C1.

Federal Communications Commission.
John A. Karousos,
Chief, Allocations Branch, Policy and Rules Division, Mass Media Bureau.

[FR Doc. 00-5149 Filed 3-2-00; 8:45 am]

BILLING CODE 6712-01-P